DEPARTMENT OF COMMERCE

International Trade Administration

[A-570-970]

Multilayered Wood Flooring From the People's Republic of China: Preliminary Results of the Antidumping Duty Administrative Review; 2016-2017

AGENCY: Enforcement and Compliance, International Trade Administration, Department of Commerce.

SUMMARY: The Department of Commerce (Commerce) preliminarily determines that certain exporters subject to this administrative review made sales of subject merchandise at less than normal value (NV). Interested parties are invited to comment on these preliminary results of review.

DATES: Applicable December 21, 2018.

FOR FURTHER INFORMATION CONTACT: Michael Bowen or William Horn, AD/CVD Operations, Office VIII, Enforcement and Compliance, International Trade Administration, U.S. Department of Commerce, 1401 Constitution Avenue NW, Washington, DC 20230; telephone: (202) 482-0768 or (202) 482-4868, respectively.

SUPPLEMENTARY INFORMATION:

Scope of the Order ¹

¹ See Multilayered Wood Flooring from the People's Republic of China: Notice of Amended Final Affirmative Determination of Sales at Less than Fair Value and Antidumping Duty Order, 76 FR 76690 (December 8, 2011), as amended in Multilayered Wood Flooring from the People's Republic of China, 77 FR 5484 (February 3, 2012) (collectively, Order).

The product covered by the Order is wood flooring from China. For a complete description of the scope of this administrative review, see the Preliminary Decision Memorandum.²

² See Memorandum to Gary Taverman, Deputy Assistant Secretary for Antidumping and Countervailing Duty Operations, performing the non-exclusive functions and duties of the Assistant Secretary for Enforcement and Compliance, from James P. Maeder, Associate Deputy Assistant Secretary for Antidumping and Countervailing Duty Operations performing the duties of Deputy Assistant Secretary for Antidumping and Countervailing Duty Operations, “Decision Memorandum for the Preliminary Results in the Antidumping Duty Administrative Review; Multilayered Wood Flooring from the People's Republic of China; 2016-2017,” (Preliminary Decision Memorandum), dated concurrently with, and hereby adopted by, this notice.

Partial Rescission of Review

We initiated a review of 146 companies and the China-wide entity for this segment of the proceeding.³ All requests for review of the following producers/exporters were timely withdrawn: Dalian Penghong Floor Products Co., Ltd. (Dalian Penghong), Dalian Shumaike Floor Manufacturing Co., Ltd., Fusong Jinqiu Wooden Product Co., Ltd., Huzhou Jesonwood Co., Ltd. (Huzhou Jesonwood), and Dunhua City Jisen Wood Industry Co., Ltd. (Jisen Wood).⁴ Additionally, the Order was revoked with respect to the following companies: Armstrong Wood Products (Kunshan) Co., Ltd., Fine Furniture (Shanghai) Limited and Double F Limited, and Jisen Wood.⁵ Lastly, we inadvertently initiated the review with respect to Baroque Timber Industries (Zhongshan) Co., Ltd., despite no request for review of this company.⁶ Accordingly, Commerce is rescinding the administrative review with respect to these eight companies.⁷ See Appendix II for a complete list of these companies.

³ See Initiation of Antidumping and Countervailing Duty Administrative Reviews, 83 FR 8058 (February 23, 2018) (Initiation Notice); see also Initiation of Antidumping and Countervailing Duty Administrative Reviews, 83 FR 16298 (April 16, 2018) (initiating with respect to Double F Limited), and Initiation of Antidumping and Countervailing Duty Administrative Reviews, 83 FR 19215 (May 2, 2018) (initiating with respect to the China-wide entity).

⁴ See Huzhou Jesonwood's Letter, “Withdrawal of Review Request in the 6th Administrative Review of the Antidumping Duty Order on Multilayered Wood Flooring from the People's Republic of China,” dated March 14, 2018; American Manufacturers of Multilayered Wood Flooring's (Petitioner's) Letter, “Multilayered Wood Flooring from the People's Republic of China: Withdrawal of Request for Administrative Review, in Part,” dated March 24, 2017; CDC Distributors, Inc.'s Letter, “Multilayered Wood Flooring from the People's Republic of China: Partial Withdrawal of Administrative Review Request,” dated March 24, 2017; Petitioner's Letter, “Multilayered Wood Flooring from the People's Republic of China: Withdrawal of Request for Administrative Review, in Part,” dated May 3, 2018; and Dalian Penghong and Jisen Wood's letter, “Multilayered Wood Flooring from the People's Republic of China: Withdrawal of Request for Administrative Review,” dated May 7, 2018.

⁵ See Changzhou Hawd Flooring Co., et al. v. United States, Ct. No. 12-20, Slip Op. 18-82 (Court of Int'l Trade July 3, 2018) and Changzhou Hawd Flooring Co., et al. v. United States, Ct. No. 12-20, Dkt. No. 199 (Court of Int'l Trade Aug. 15, 2018). See also Multilayered Wood Flooring from the People's Republic of China: Amendment to Notice of Court Decision Not in Harmony with the Second Amended Final Determination and Amendment to Notice of Third Amended Final Determination of the Antidumping Duty Investigation, 83 FR 44027 (August 29, 2018).

⁶ See Initiation Notice.

⁷ See 19 CFR 351.213(d)(1).

Preliminary Determination of No Shipments

Based on an analysis of information from U.S. Customs and Border Protection (CBP), no shipment certifications, and other record information, we preliminarily determine that 18 companies had no shipments of subject merchandise during the period of review (POR).⁸ For additional information regarding this determination, see the Preliminary Decision Memorandum. Consistent with our practice in non-market economy (NME) cases, we are not rescinding this administrative review with respect to these companies but, rather, intend to complete the review and issue appropriate instructions to CBP based on the final results of the review.⁹

⁸ See Appendix II for a list of these companies.

⁹ See Non-Market Economy Antidumping Proceedings: Assessment of Antidumping Duties, 76 FR 65694, 65694-95 (October 24, 2011) and the “Assessment Rates” section, below.

Separate Rates

We preliminarily determine that, in addition to mandatory respondents, Jiangsu Senmao Bamboo and Wood Industry Co., Ltd. (Jiangsu Senmao), and Sino-Maple (Jiangsu) Co., Ltd. (Sino-Maple), 59 companies not individually examined are eligible for separate rates in this review.¹⁰ The statute and Commerce's regulations do not address the establishment of a rate to be applied to individual respondents not selected for individual examination when Commerce limits its examination in an administrative review pursuant to section 777A(c)(2) of the Tariff Act of 1930, as amended (the Act). Generally, Commerce looks to section 735(c)(5) of the Act, which provides instructions for calculating the all-others rate in an investigation, for guidance when calculating the rate for separate-rate respondents which Commerce did not examine individually in an administrative review. For the preliminary results of this review, Commerce has determined the estimated dumping margin for each of the individually examined respondents to be zero or based entirely on facts otherwise available.¹¹ As a result, following the guidance in section 735(c)(5)(b) of the Act, we assigned to all eligible non-selected respondents the simple average of the separate rates assigned to Jiangsu Senmao and Sino-Maple for the preliminary results of this review.

¹⁰ See Preliminary Decision Memorandum.

¹¹ See Memorandum, “Preliminary Results Margin Calculation for Jiangsu Senmao Bamboo and Wood Industry Co., Ltd.,” dated concurrently with this notice (Jiangsu Senmao Calculation Memorandum). See also Preliminary Decision Memorandum.

The China-Wide Entity

Commerce's policy regarding conditional review of the China-wide entity applies to this administrative review.¹² Under this policy, the China-wide entity will not be under review unless a party specifically requests, or Commerce self-initiates, a review of the entity. A request for a review of the China-wide entity was made in this review.¹³ Therefore, the China-wide entity is subject to this administrative review.

¹² See Antidumping Proceedings: Announcement of Change in Department Practice for Respondent Selection in Antidumping Duty Proceedings and Conditional Review of the Nonmarket Economy Entity in NME Antidumping Duty Proceedings, 78 FR 65963 (November 4, 2013).

¹³ See the Coalition for American Hardwood Parity's Letter, “Request for Administrative Review: Multilayered Wood Flooring from the People's Republic of China,” dated December 28, 2017.

Aside from the companies we preliminarily find made no shipments and those companies for which the review is being rescinded, Commerce considers all other companies for which a review was requested and which did not demonstrate separate rate eligibility to be part of the China-wide entity.¹⁴ For the preliminary results of this review, we consider 59 companies to be part of the China-wide entity. For additional information, see the Preliminary Decision Memorandum.

¹⁴ See Initiation Notice (“All firms listed below that wish to qualify for separate rate status in the administrative reviews involving NME countries must complete, as appropriate, either a separate rate application or certification, as described below.”) Companies that are subject to this administrative review that are considered to be part of the China-wide entity are listed in Appendix II.

Application of Adverse Facts Available (AFA)

We preliminarily determine that the use of facts otherwise available is warranted with respect to the China-wide entity, in accordance with sections 776(a)(1) and (a)(2)(A)-(C) of the Act, because the China-wide entity failed to provide necessary information, withheld information requested by Commerce, and significantly impeded the proceeding by not responding to Commerce's quantity and value questionnaire.¹⁵ Further, pursuant to section 776(b) of the Act, we preliminarily determine that, because the China-wide entity failed to cooperate by not acting to the best of its ability, an adverse inference is warranted.

¹⁵ See Commerce's Letter, “Quantity and Value Questionnaire for the 2016-2017 Antidumping Duty Administrative Review of Multilayered Wood Flooring from the People's Republic of China,” dated May 18, 2018.

We also determine that the use of facts otherwise available is warranted with respect to Sino-Maple, in accordance with sections 776(a)(1) and (a)(2)(A)-(C) of the Act, because Sino-Maple failed to provide necessary information, withheld information requested by Commerce, and significantly impeded the proceeding, by not reporting the nature of its relationship with a U.S. affiliate and certain sales information. Further, pursuant to section 776(b) of the Act, we preliminarily determine that, because Sino-Maple failed to cooperate by not acting to the best of its ability, an adverse inference is warranted.

For additional information, see the Preliminary Decision Memorandum.

Methodology

We are conducting this review in accordance with section 751(a)(1)(B) of the Act. We calculated export prices for Jiangsu Senmao in accordance with section 772 of the Act. Because China is an NME within the meaning of section 771(18) of the Act, we calculated NV in accordance with section 773(c) of the Act. Additionally, as discussed above, we are basing Sino-Maple's estimated dumping margin entirely on facts otherwise available.

For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov and in the Central Records Unit, Room B8024 of the main Commerce building. In addition, a complete version of the Preliminary Decision Memorandum can be accessed directly on the internet at http://enforcement.trade.gov/frn/index.html. The signed Preliminary Decision Memorandum and the electronic version of the Preliminary Decision Memorandum are identical in content. A list of topics discussed in the Preliminary Decision Memorandum is included as Appendix I to this notice.

Preliminary Results of Review

In this administrative review, we preliminarily calculated a weighted-average dumping margin for Jiangsu Senmao of zero.¹⁶ As total AFA, we assigned to Sino-Maple the highest transaction-specific margin calculated for any respondent in this segment of the proceeding, or 96.51 percent.¹⁷ As discussed above, for the 59 additional companies subject to this review that established separate rate eligibility, we assigned a simple average of the separate rates assigned to Jiangsu Senmao and Sino-Maple, or 48.26 percent. Further, as noted, the China-wide entity is subject to this administrative review, and therefore, the rate established in the investigation of 25.62 percent is subject to change. As total AFA, we also preliminarily assigned a rate of 96.51 percent to the China-wide entity. For additional information, see the Preliminary Decision Memorandum.

¹⁶ See Jiangsu Senmao Calculation Memorandum.

¹⁷ Id. at Attachment. See also Preliminary Decision Memorandum.

For the 61 companies subject to this review that have established their eligibility for a separate rate, and the China-wide entity, we preliminarily determine that the following estimated dumping margins exist for the period December 1, 2016, through November 30, 2017:

Exporters | Weighted- average dumping margin (percent)
The China-Wide Entity | 96.51
Sino-Maple (Jiangsu) Co., Ltd | 96.51
Jiangsu Senmao Bamboo and Wood Industry Co., Ltd | 0.00
A&W (Shanghai) Woods Co., Ltd | 48.26
Benxi Flooring Factory (General Partnership) | 48.26
Benxi Wood Company | 48.26
Dalian Dajen Wood Co., Ltd | 48.26
Dalian Guhua Wooden Product Co., Ltd | 48.26
Dalian Huilong Wooden Products Co., Ltd | 48.26
Dalian Jiahong Wood Industry Co., Ltd | 48.26
Dalian Kemian Wood Industry Co., Ltd | 48.26
Dalian Qianqiu Wooden Product Co., Ltd | 48.26
Dalian T-Boom Wood Products Co., Ltd | 48.26
Dongtai Fuan Universal Dynamics, LLC | 48.26
Dunhua City Hongyuan Wood Industry Co., Ltd | 48.26
Dunhua City Dexin Wood Industry Co., Ltd | 48.26
DunHua SenTai Wood Co., Ltd | 48.26
Dunhua Shengda Wood Industry Co., Ltd | 48.26
Fusong Jinlong Wooden Group Co., Ltd | 48.26
Fusong Qianqiu Wooden Product Co., Ltd | 48.26
Guangzhou Homebon Timber Manufacturing Co., Ltd | 48.26
Guangzhou Panyu Kangda Board Co., Ltd | 48.26
Guangzhou Panyu Southern Star Co., Ltd | 48.26
HaiLin LinJing Wooden Products Co., Ltd | 48.26
Hangzhou Hanje Tec Co., Ltd | 48.26
Hunchun Xingjia Wooden Flooring Inc | 48.26
Huzhou Chenghang Wood Co., Ltd | 48.26
Huzhou Fulinmen Imp. & Exp. Co., Ltd | 48.26
Huzhou Sunergy World Trade Co., Ltd | 48.26
Innomaster Home (Zhongshan) Co., Ltd | 48.26
Jiangsu Guyu International Trading Co., Ltd | 48.26
Jiangsu Mingle Flooring Co., Ltd | 48.26
Jiangsu Simba Flooring Co., Ltd | 48.26
Jiashan HuiJiaLe Decoration Material Co., Ltd | 48.26
Jiaxing Hengtong Wood Co., Ltd | 48.26
Jilin Xinyuan Wooden Industry Co., Ltd | 48.26
Kember Flooring, Inc | 48.26
Kemian Wood Industry (Kunshan) Co., Ltd | 48.26
Linyi Anying Wood Co., Ltd | 48.26
Linyi Youyou Wood Co., Ltd | 48.26
Metropolitan Hardwood Floors, Inc | 48.26
Mudanjiang Bosen Wood Industry Co., Ltd | 48.26
Nakahiro Jyou Sei Furniture (Dalian) Co., Ltd | 48.26
Pinge Timber Manufacturing (Zhejiang) Co., Ltd | 48.26
Power Dekor Group Co., Ltd | 48.26
Shandong Longteng Wood Co., Ltd | 48.26
Shanghai Lairunde Wood Co., Ltd | 48.26
Shanghaifloor Timber (Shanghai) Co., Ltd | 48.26
Shenyang Haobainian Wooden Co., Ltd | 48.26
Shenzhenshi Huanwei Woods Co., Ltd | 48.26
Suzhou Dongda Wood Co., Ltd | 48.26
Tongxiang Jisheng Import and Export Co., Ltd | 48.26
Xuzhou Antop International Trade Co., Ltd | 48.26
Xuzhou Shenghe Wood Co., Ltd | 48.26
Yekalon Industry Inc | 48.26
Yihua Lifestyle Technology Co., Ltd | 48.26
Zhejiang Biyork Wood Co., Ltd | 48.26
Zhejiang Dadongwu Green Home Wood Co., Ltd | 48.26
Zhejiang Fudeli Timber Industry Co., Ltd | 48.26
Zhejiang Fuerjia Wooden Co., Ltd | 48.26
Zhejiang Longsen Lumbering Co., Ltd | 48.26
Zhejiang Shuimojiangnan New Material Technology Co., Ltd | 48.26

Disclosure and Public Comment

We intend to disclose to interested parties the calculations performed for these preliminary results within five days of the date of publication of this notice in accordance with 19 CFR 351.224(b). Interested parties may submit case briefs no later than 30 days after the date of publication of these preliminary results of review.¹⁸ Rebuttals to case briefs may be filed no later than five days after the written comments are filed, and all rebuttal comments must be limited to comments raised in the case briefs.¹⁹

¹⁸ See 19 CFR 351.309(c).

¹⁹ See 19 CFR 351.309(d).

Pursuant to 19 CFR 351.309(c)(2) and (d)(2), parties who submit case briefs or rebuttal briefs in this review are encouraged to submit with each argument: (1) A statement of the issue; (2) a brief summary of the argument; and (3) a table of authorities.

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, we intend to hold the hearing at the U.S. Department of Commerce, 1401 Constitution Avenue NW, Washington, DC 20230, at a time and date to be determined. Parties should confirm by telephone the date, time, and location of the hearing two days before the scheduled date.

Unless otherwise extended, we intend to issue the final results of this administrative review, which will include the results of our analysis of the issues raised in the case briefs, within 120 days of publication of these preliminary results in the Federal Register, pursuant to section 751(a)(3)(A) of the Act.

Assessment Rates

Upon issuance of the final results, Commerce will determine, and CBP shall assess, antidumping duties on all appropriate entries covered by this review, in accordance with 19 CFR 351.212(b). We intend to issue appropriate assessment instructions with respect to the companies for which this review is rescinded to CBP 15 days after the publication of this notice.

For the companies for which this review is rescinded, antidumping duties shall be assessed at rates equal to the cash deposit of estimated antidumping duties required at the time of entry, or withdrawal from warehouse, for consumption, in accordance with 19 CFR 351.212(c)(1)(i). For the respondents that were not selected for individual examination in this administrative review that qualified for a separate rate, the assessment rate will be equal to the simple average of the estimated dumping margins assigned to Jiangsu Senmao and Sino-Maple in the final results of this review.²⁰ For the final results, if we continue to base the China-wide entity and Sino-Maple's estimated dumping margin on total adverse facts available, we will instruct CBP to apply an ad valorem assessment rate of 96.51 percent to all entries of subject merchandise during the POR which were produced and/or exported by those entities.

²⁰ See Drawn Stainless Steel Sinks from the People's Republic of China: Preliminary Results of the Antidumping Duty Administrative Review and Preliminary Determination of No Shipments: 2014-2015, 81 FR 29528 (May 12, 2016), and accompanying Preliminary Decision Memorandum at 10-11; unchanged in Drawn Stainless Steel Sinks from the People's Republic of China: Final Results of Antidumping Duty Administrative Review; Final Determination of No Shipments; 2014-2015, 81 FR 54042 (August 15, 2016).

If, in the final results, Jiangsu Senmao's weighted-average dumping margin continues to be zero or de minimis (i.e., less than 0.5 percent), Commerce will instruct CBP to liquidate the appropriate entries without regard to antidumping duties. For entries that were not reported in the U.S. sales databases submitted by the company individually examined during this review, Commerce will instruct CBP to liquidate such entries at the China-wide rate. In addition, if we continue to find no shipments of subject merchandise for the 18 companies for which we preliminarily find no such shipments during the POR,²¹ any suspended entries of subject merchandise from those companies will be liquidated at the China-wide rate.²²

²¹ See Appendix II for a list of these companies.

²² See Non-Market Economy Antidumping Proceedings: Assessment of Antidumping Duties, 76 FR 65694, 65695 (October 24, 2011).

Cash Deposit Requirements

The following cash deposit requirements will be effective upon publication of the final results of this administrative review for all shipments of the subject merchandise from China entered, or withdrawn from warehouse, for consumption on or after the publication date, as provided for by section 751(a)(2)(C) of the Act: (1) For the companies listed above that have a separate rate, the cash deposit rate will be that rate established in the final results of this review (except, if the rate is de minimis, then a cash deposit rate of zero will be required); (2) for previously investigated or reviewed Chinese and non-Chinese exporters for which a review was not requested and that received a separate rate in a prior segment of this proceeding, the cash deposit rate will continue to be the existing exporter-specific rate; (3) for all Chinese exporters of subject merchandise that have not been found to be entitled to a separate rate, the cash deposit rate will be the rate for the China-wide entity, as discussed above; and (4) for all non-China exporters of subject merchandise that have not received their own rate, the cash deposit rate will be the rate applicable to China exporter(s) that supplied that non-China exporter. These cash deposit requirements, when imposed, shall remain in effect until further notice.

Notification to Importers

This notice also serves as a preliminary reminder to importers of their responsibility under 19 CFR 351.402(f) to file a certificate regarding the reimbursement of antidumping and/or countervailing duties prior to liquidation of the relevant entries during this review period. Failure to comply with this requirement could result in Commerce's presumption that reimbursement of antidumping and/or countervailing duties occurred and the subsequent assessment of double antidumping duties.

We are issuing and publishing these preliminary results of review in accordance with sections 751(a)(l) and 777(i)(l) of the Act and 19 CFR 351.221(b)(4).

Dated: December 17, 2018.
Gary Taverman,
Deputy Assistant Secretary for Antidumping and Countervailing Duty Operations, performing the non-exclusive functions and duties of the Assistant Secretary for Enforcement and Compliance.

Appendix I

List of Topics Discussed in the Preliminary Decision Memorandum

I. Summary

II. Background

III. Period of Review

IV. Scope of the Order

V. Selection of Respondents

VI. Partial Rescission of Review

VII. Preliminary Determination of No Shipments

VIII. Discussion of the Methodology

A. Non-Market Economy Country Status

B. Separate Rate Determinations

1. Sino-Maple and Wholly Foreign-Owned Separate Rate Applicants

2. Jiangsu Senmao and Chinese-Owned Separate Rate Applicants

a. Absence of De Jure Control

b. Absence of De Facto Control

3. China-Wide Entity

C. Application of AFA to the China-Wide Entity and Sino-Maple

1. Application of Facts Available

2. Application of Facts Available with an Adverse Inference

3. Selection and Corroboration of the AFA Rate

D. Weighted-Average Dumping Margin for Non-Examined Separate-Rate Companies

E. Surrogate Country and SV Data

1. Surrogate Country Selection

2. Economic Comparability

3. Significant Producer of Identical or Comparable Merchandise

4. Data Availability

F. Date of Sale

G. Comparisons to Normal Value

1. Determination of Comparison Method

2. Results of the Differential Pricing Analysis

H. U.S. Price

1. Export Price

2. Value-Added Tax

I. Normal Value

1. Factor Valuation Methodology

a. Direct and Packing Materials

b. Labor

c. Financial Ratios

d. By-Products

J. Adjustment Under Section 777A(f) of the Act

K. Currency Conversion

IX. Recommendation

Appendix II

No Shipments

Anhui Boya Bamboo & Wood Products Co., Ltd.

Anhui Longhua Bamboo Product Co., Ltd.

Changzhou Hawd Flooring Co., Ltd.

Chinafloors Timber (China) Co., Ltd.

Dalian Huade Wood Product Co., Ltd.

Dalian Jaenmaken Wood Industry Co., Ltd.

Hangzhou Zhengtian Industrial Co., Ltd.

Hunchun Forest Wolf Wooden Industry Co., Ltd.

Jiafeng Wood (Suzhou) Co., Ltd.

Jiangsu Yuhui International Trade Co., Ltd.

Jiashan On-Line Lumber Co., Ltd.

Karly Wood Product Limited

Kingman Floors Co., Ltd.

Linyi Bonn Flooring Manufacturing Co., Ltd.

Xiamen Yung De Ornament Co., Ltd.

Yingyi-Nature (Kunshan) Wood Industry Co., Ltd.

Zhejiang Shiyou Timber Co., Ltd.

Zhejiang Simite Wooden Co., Ltd.

China-Wide Entity

Anhui Suzhou Dongda Wood Co., Ltd.

Baishan Huafeng Wooden Product Co., Ltd.

Baiying Furniture Manufacturer Co., Ltd.

Changbai Mountain Development and Protection Zone Hongtu Wood Industrial Co., Ltd.

Cheng Hang Wood Co., Ltd.

Dalian Jiuyuan Wood Industry Co., Ltd.

Dalian Xinjinghua Wood Co., Ltd.

Dongtai Zhangshi Wood Industry Co., Ltd.

Dunhua City Wanrong Wood Industry Co., Ltd.

Fu Lik Timber (HK) Co., Ltd.

Fujian Wuyishan Werner Green Industry Co., Ltd.

GTP International Ltd.

Guangdong Fu Lin Timber Technology Limited

Guangdong Yihua Timber Industry Co., Ltd.

HaiLin XinCheng Wooden Products, Ltd.

Hangzhou Dazhuang Floor Co., Ltd. (dba Dasso Industrial Group Co., Ltd.)

Hangzhou Huahi Wood Industry Co., Ltd.

Henan Xingwangjia Technology Co., Ltd.

Hong Kong Easoon Wood Technology Co., Ltd.

Huaxin Jiasheng Wood Co., Ltd.

Huber Engineering Wood Corp.

Huzhou City Nanxun Guangda Wood Co., Ltd.

Huzhou Fuma Wood Co., Ltd.

Huzhou Muyun Wood Co., Ltd.

Jiangsu Kentier Wood Co., Ltd.

Jiangsu Keri Wood Co., Ltd.

Jiashan Fengyun Timber Co., Ltd.

Jiaxing Brilliant Import & Export Co., Ltd.

Jilin Forest Industry Jinqiao Flooring Group Co., Ltd.

Kornbest Enterprises Limited

Kunming Alston (AST) Wood Products Co., Ltd.

Les Planchers Mercier, Inc.

Liaoning Daheng Timber Group Co., Ltd.

Nanjing Minglin Wooden Industry Co., Ltd.

Ningbo Tianyi Bamboo and Wood Products Co., Ltd.

Qingdao Barry Flooring Co., Ltd.

Scholar Home (Shanghai) New Material Co., Ltd.

Shandong Kaiyuan Wood Industry Co., Ltd.

Shandong Puli Trading Co., Ltd.

Shanghai Anxin (Weiguang) Timber Co., Ltd.

Shanghai Demeija Timber Co., Ltd.

Shanghai Eswell Timber Co., Ltd.

Shanghai Lizhong Wood Products Co., Ltd. (also known as The Lizhong Wood Industry Limited Company of Shanghai)

Shanghai New Sihe Wood Co., Ltd.

Shanghai Shenlin Corporation

Shenyang Sende Wood Co., Ltd.

Suzhou Anxin Weiguang Timber Co., Ltd.

Tak Wah Building Material (Suzhou) Co.

Tech Wood International Ltd.

Vicwood Industry (Suzhou) Co. Ltd.

Yixing Lion-King Timber Industry

Zhejiang AnJi Xinfeng Bamboo and Wood Industry Co., Ltd.

Zhejiang Desheng Wood Industry Co., Ltd.

Zhejiang Fuma Warm Technology Co., Ltd.

Zhejiang Haoyun Wooden Co., Ltd.

Zhejiang Jesonwood Co., Ltd.

Zhejiang Jiechen Wood Industry Co., Ltd.

Zhejiang Tianzhen Bamboo & Wood Development Co., Ltd.

Zhejiang Yongyu Bamboo Joint-Stock Co., Ltd.

Rescissions

Armstrong Wood Products (Kunshan) Co., Ltd.

Baroque Timber Industries (Zhongshan) Co., Ltd.

Dalian Penghong Floor Products Co., Ltd.

Dalian Shumaike Floor Manufacturing Co., Ltd.

Dunhua City Jisen Wood Industry Co., Ltd.

Fine Furniture (Shanghai) Limited and Double F Limited

Fusong Jinqiu Wooden Product Co., Ltd.

Huzhou Jesonwood Co., Ltd.

[FR Doc. 2018-27676 Filed 12-20-18; 8:45 am]

BILLING CODE 3510-DS-P